DEPARTMENT OF STATE

[Public Notice: 12520]

U.S. Advisory Commission on Public Diplomacy; Notice of Meeting

The U.S. Advisory Commission on Public Diplomacy (ACPD) will hold an in-person public meeting with online access on Monday, September 30, 2024. A panel of experts will discuss the role international expositions have in promoting public diplomacy with an eye towards the USA Pavilion at Expo 2025 in Osaka, Japan. The meeting will be held at Meridian International Center, 1630 Crescent Place NW, Washington, DC 20009.

This meeting is open to the public, including the media and members and staff of governmental and non-governmental organizations. To attend the event, please register at https://iipstate.my.site.com/CRMEventRegistration/s/registration-page?event=2oAj7wzHg_qPOJ5RdlQr12Hz47Z4PmOtc3hXBizCvQU. Doors will open at 10 a.m.

To request reasonable accommodation, please email ACPD Program Assistant Kristy Zamary at ZamaryKK@state.gov. Please send any request for reasonable accommodation no later than Thursday, September 12, 2024. Requests received after that date will be considered but might not be possible to fulfill.

Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://bit.ly/ACPDSite, or contact Executive Director Sarah Arkin at ArkinSE@state.gov or Senior Advisor Dan Langenkamp at LangenkampDB@state.gov.

(Authority: 22 U.S.C. 2651a, 22 U.S.C. 1469, 5 U.S.C. 1001 et seq., and 41 CFR 102-3.150.)

Sarah E. Arkin,
Executive Director, U.S. Advisory Commission on Public Diplomacy, Department of State.

[FR Doc. 2024-19704 Filed 8-30-24; 8:45 am]

BILLING CODE 4710-45-P